DEPARTMENT OF THE TREASURY

Bureau of Engraving and Printing

Privacy Act of 1974; System of Records

AGENCY: Bureau of Engraving and Printing, Treasury.

ACTION: Notice of alterations to an existing Privacy Act system of records.

SUMMARY: The Treasury Department, Bureau of Engraving and Printing, gives notice of proposed alterations to Treasury/BEP .027—Programmable Access Security System (PASS), which is subject to the Privacy Act of 1974.

DATES: Comments must be received no later than October 15, 2002. The proposed alterations will be effective October 23, 2002, unless the Department receives comments that would result in a contrary determination.

FOR FURTHER INFORMATION CONTACT: Patricia A. Warden, Disclosure Officer, Bureau of Engraving and Printing, 14th and C streets, SW, Room 646PD, Washington, DC 20228. Telephone number (202) 874-2582.

SUPPLEMENTARY INFORMATION: The Bureau of Engraving and Printing (BEP) is adding as a new category under the heading “Categories of individuals,” all official visitors who do not possess a valid Federal Government ID. The change will allow the BEP to have a record of all official visitors who enter one of its premises. Under the heading “Categories of records”, category (C) is being revised to reflect the collection of information about official visitors to a BEP facility will include their full name, social security number and date of birth (DOB). The collection of this information will allow a security check to be made on all such persons entering the buildings.

Under the heading “retention”, BEP is adding language concerning the retention of the records submitted by the visitors to the bureau premises. Under the heading “System Manager,” the identification of the system manager at the Fort Worth facility is being changed to show that the Manager of the Security and Police Division is the specific individual responsible for the maintenance of the records at that facility.

Finally, all references to Bureau of the Public Debt (BPD) employees are removed from the text under the headings “Categories of individuals,” “Categories of records in the system,” and “Safeguards,” as they no longer occupy the BEP facility.

The system notice was last published in its entirety in the Federal Register, Vol. 66, page 33305, on June 21, 2001.

The report of an altered system of records, as required by 5 U.S.C. 552a(r) of the Privacy Act, has been submitted to the Committee on Government Operations of the House of Representatives, the Committee on Governmental Affairs of the Senate, and the Office of Management and Budget, pursuant to Appendix I to OMB Circular A-130, “Federal Agency Responsibilities for Maintaining Records About Individuals.”

For the reasons set forth in this preamble, the BEP proposes to amend its system of records Treasury/BEP .027 as set forth below:

TREASURY/BEP .027

System name:

Programmable Access Security System (PASS)—Treasury/BEP.

* * * * *

Categories of individuals covered by the system:

Description of the Change: Remove the words “employees of the Bureau of the Public Debt (BPD) who are assigned to work at the 12th and C streets SW. Washington, DC. facility;”. Remove the “and” following “BEP Access Badges” and insert a semicolon (;); remove the words “and the Bureau of Public Debt who have been cleared for access to either bureau.”, insert a comma(,); and add the following new category of individuals:

* * * * *

“and all official visitors who do not possess a valid Federal Government ID.”

Categories of records in the system:

Description of the Change: In category (A) remove the words “and BPD.” In category (B) remove the words “and BPD.” Category (c) is revised to read as follows:

* * * * *

“For all official visitors who do not possess a valid Federal Government ID, i.e., those who will require an “Escort Visitor” badge, their full name, social security number, and date of birth (DOB) will be maintained.”

* * * * *

Safeguards:

Description of the Change: Remove the word “, BPD” from the last sentence under this heading.

Retention and disposal:

Description of Change: Remove the current text and in its place add the following:

* * * * *

“The retention period is for at most two (2) years.”

System manager(S) and address:

Description of Change: The words “Security Division personnel” are removed and the following words are added in their place “Manager, Security and Police Division''.

* * * * *

Dated: September 5, 2002.
W. Earl Wright, Jr.,
Chief Management and Administrative Programs Officer.

[FR Doc. 02-23306 Filed 9-12-02; 8:45 am]

BILLING CODE 4840-01-P